POSTAL SERVICE

39 CFR Part 265

Release of Information, Privacy of Information

AGENCY: Postal Service.

ACTION: Corrected final rule.

SUMMARY: This rule amends the Postal Service regulations on the release of information to correct errors in two exhibits contained in a previous document.

EFFECTIVE DATE: July 1, 2004.

FOR FURTHER INFORMATION CONTACT: Jane Eyre at 202-268-2608.

SUPPLEMENTARY INFORMATION: On June 23, 2004, the Postal Service published a document amending its rules dealing with records and information (69 FR 34932). Inspection of the notice disclosed the presence of minor errors in two exhibits in 39 CFR part 265. Accordingly, the Postal Service makes the following corrections effective immediately.

List of Subjects in 39 CFR Part 265

Administrative practice and procedure, Courts, Freedom of information, Government employees.

PART 265—[AMENDED]

1. The authority citation for part 265 continues to read as follows:

Authority: 5 U.S.C. 552; 5 U.S.C. App. 3; 39 U.S.C. 401, 403, 410, 1001, 2601.

* * * * *

§ 265.6 [Amended]

2. In § 265.6, following paragraph (g), remove the exhibits and insert the two forms as set forth below:

§ 265.6 Availability of records.

* * * * *

(g) * * *

BILLING CODE 7710-12-P

Stanley F. Mires,
Chief Counsel, Legislative.

[FR Doc. 04-14902 Filed 6-30-04; 8:45 am]

BILLING CODE 7710-12-P